DEPARTMENT OF TRANSPORTATION

Federal Motor Carrier Safety Administration

[Docket No. FMCSA-2017-0014]

Qualification of Drivers; Exemption Applications; Vision

AGENCY: Federal Motor Carrier Safety Administration (FMCSA), DOT.

ACTION: Notice of applications for exemptions; request for comments.

SUMMARY: FMCSA announces receipt of applications from 21 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before May 12, 2017. All comments will be investigated by FMCSA. The exemptions will be issued the day after the comment period closes.

ADDRESSES: You may submit comments bearing the Federal Docket Management System (FDMS) Docket No. FMCSA-2017-0014 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., e.t., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., e.t., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 21 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Andrew R. Cook

Mr. Cook, 46, has a retinal detachment in his left eye due to a traumatic incident in 2001. The visual acuity in his right eye is 20/20, and in his left eye, 20/400. Following an examination in 2016, his ophthalmologist stated, “In my medical opinion based on the information that I have, Mr. Cook is a very experienced driver, and has sufficient vision to perform the driving tasks required to operate a commercial vehicle.” Mr. Cook reported that he has driven straight trucks for 11 years, accumulating 132,000 miles. He holds a Class B CDL from Vermont. His driving record for the last 3 years shows no crashes and no convictions for moving violations in a CMV.

Kevin M. Finn

Mr. Finn, 52, has had a cataract in his right eye since birth. The visual acuity in his right eye is hand motion, and in his left eye, 20/20. Following an examination in 2016, his ophthalmologist stated, “Mr. Finn's current ocular status is stable and has likely been such for many years [sic] There [sic] is no acute pathology noted. He should have no difficulties with activities relating to driving a commercial vehicle since he has been driving for many years with his current status.” Mr. Finn reported that he has driven straight trucks for 26 years, accumulating 33,800 miles. He holds a Class AM CDL from New York. His driving record for the last 3 years shows no crashes and no convictions for moving violations in a CMV.

David R. Ford

Mr. Ford, 59, has had a retinal detachment in his right eye since 2013. The visual acuity in his right eye is 20/200, and in his left eye, 20/20. Following an examination in 2017, his optometrist stated, “With current rx [sic], and medical opinion patient is ok [sic] to drive a commercial vehicle.” Mr. Ford reported that he has driven straight trucks for 32 years, accumulating 80,000 miles. He holds a Class A CDL from Ohio. His driving record for the last 3 years shows no crashes and no convictions for moving violations in a CMV.

Douglas P. Fossum

Mr. Fossum, 61, has had amblyopia in his left eye since childhood. The visual acuity in his right eye is 20/20, and in his left eye, 20/100. Following an examination in 2016, his optometrist stated, “It would be my opinion that Mr. Fossum has sufficient vision to perform the driving tasks required to operate a commercial vehicle.” Mr. Fossum reported that he has driven straight trucks for 40 years, accumulating 1 million miles, and tractor-trailer combinations for 33 years, accumulating 990,000 miles. He holds a Class A CDL from South Dakota. His driving record for the last 3 years shows no crashes and no convictions for moving violations in a CMV.

Timothy M. Good

Mr. Good, 61, has had amblyopia in his right eye since childhood. The visual acuity in his right eye is 20/200, and in his left eye, 20/20. Following an examination in 2016, his optometrist stated, “I hereby acknowledge that Mr. Timothy Good is indeed qualified and has ample sufficient vision to perform the driving tasks required to operate a commercial vehicle.” Mr. Good reported that he has driven straight trucks for 3 years, accumulating 468,000 miles, and tractor-trailer combinations for 1 year, accumulating 104,000 miles. He holds a Class CA CDL from Michigan. His driving record for the last 3 years shows no crashes and no convictions for moving violations in a CMV.

John R. Harper

Mr. Harper, 31, has had amblyopia in his left eye since birth. The visual acuity in his right eye is 20/20, and in his left eye, 20/70. Following an examination in 2016, his optometrist stated, “In my medical opinion, John Harper has sufficient vision to perform the driving tasks required to operate a commercial vehicle.” Mr. Harper reported that he has driven straight trucks for 9 years, accumulating 216,000 miles, and tractor-trailer combinations for 2 years, accumulating 24,000 miles. He holds a Class A CDL from Kansas. His driving record for the last 3 years shows no crashes and no convictions for moving violations in a CMV.

George H. Keppol, Jr.

Mr. Keppol, 60, has had a prosthetic left eye since childhood. The visual acuity in his right eye is 20/20, and in his left eye, no light perception. Following an examination in 2016, his optometrist stated, “Mr. Keppol has sufficient vision to perform the driving tasks required to operate a commercial vehicle.” Mr. Keppol reported that he has driven tractor-trailer combinations for 25 years, accumulating 3.25 million miles. He holds a Class A CDL from Washington. His driving record for the last 3 years shows no crashes and no convictions for moving violations in a CMV.

Curtis L. Lamb

Mr. Lamb, 57, has a corneal laceration in his right eye due to a traumatic incident in childhood. The visual acuity in his right eye is 20/50, and in his left eye, 20/20. Following an examination in 2017, his optometrist stated, “In my medical opinion, I do feel he has sufficient vision to perform driving tasks required to operate a commercial vehicle.” Mr. Lamb reported that he has driven straight trucks for 26 years, accumulating 2,600 miles, and tractor-trailer combinations for 26 years, accumulating 650 miles. He holds a Class A CDL from Kansas. His driving record for the last 3 years shows no crashes and no convictions for moving violations in a CMV.

Jeffery D. Lynch

Mr. Lynch, 59, has had a retinal detachment in his left eye since childhood. The visual acuity in his right eye is 20/20, and in his left eye, counting fingers. Following an examination in 2016, his ophthalmologist stated, “In my medical opinion the patient has sufficient vision to perform driving tasks required to operate a commercial vehicle.” Mr. Lynch reported that he has driven straight trucks for 40 years, accumulating 920,000 miles. He holds an operator's license from Texas. His driving record for the last 3 years shows no crashes and no convictions for moving violations in a CMV.

Kenton D. McCullough

Mr. McCullough, 37, has a macular scar in his left eye due to a traumatic incident in 2001. The visual acuity in his right eye is 20/15, and in his left eye, counting fingers. Following an examination in 2017, his optometrist stated, “This letter is to certify that in my medical opinion this patient has sufficient vision to perform driving tasks required to operate a commercial vehicle.” Mr. McCullough reported that he has driven straight trucks for 7 years, accumulating 525,000 miles, and tractor-trailer combinations for 10 years, accumulating 1 million miles. He holds a Class A CDL from Virginia. His driving record for the last 3 years shows no crashes and no convictions for moving violations in a CMV.

Charles W. Ohman

Mr. Ohman, 74, has an epiretinal membrane in his left eye due to cataract surgery in 2013. The visual acuity in his right eye is 20/25, and in his left eye, 20/70. Following an examination in 2016, his optometrist stated, “I feel that Mr. Ohman has sufficient vision to perform the driving tasks required to operate a commercial vehicle.” Mr. Ohman reported that he has driven straight trucks for 10 years, accumulating 65,000 miles, and tractor-trailer combinations for 36 years, accumulating 5.04 million miles. He holds a Class A CDL from Iowa. His driving record for the last 3 years shows no crashes and no convictions for moving violations in a CMV.

Gary A. Parece

Mr. Parece, 52, has had amblyopia in his left eye since childhood. The visual acuity in his right eye is 20/20, and in his left eye, 20/50. Following an examination in 2017, his optometrist stated, “Best Corrected [sic] to 20/20 OD and 20/50 OS should be adequate to operate a commercial vehicle [sic].” Mr. Parece reported that he has driven straight trucks for 24 years, accumulating 144,000 miles. He holds a Class BM CDL from Massachusetts. His driving record for the last 3 years shows no crashes and no convictions for moving violations in a CMV.

Everardo G. Plascencia

Mr. Plascencia, 51, has complete loss of vision in his left eye due to a traumatic incident 2003. The visual acuity in his right eye is 20/20, and in his left eye, no light perception. Following an examination in 2016, his ophthalmologist stated, “In my medical opinion as the patient's Ophthalmologist [sic], I believe he has sufficient vision to perform the driving tasks required to operate a commercial vehicle.” Mr. Plascencia reported that he has driven straight trucks for 25 years, accumulating 400,000 miles, and tractor-trailer combinations for 25 years, accumulating 250,000 miles. He holds a Class B CDL from Illinois. His driving record for the last 3 years shows no crashes and no convictions for moving violations in a CMV.

Eric D. Pohlmann

Mr. Pohlmann, 36, has had amblyopia in his right eye since childhood. The visual acuity in his right eye is 20/100, and in his left eye, 20/20. Following an examination in 2017, his ophthalmologist stated, “In my opinion, he has sufficient vision to safely operate a commercial vehicle.” Mr. Pohlmann reported that he has driven tractor-trailer combinations for 16 years, accumulating 560,000 miles. He holds a Class A CDL from Minnesota. His driving record for the last 3 years shows no crashes and no convictions for moving violations in a CMV.

Johnny W. Ray

Mr. Ray, 50, has had amblyopia in his right eye since birth. The visual acuity in his right eye is counting fingers, and in his left eye, 20/25. Following an examination in 2017, his optometrist stated that Mr. Ray does have sufficient vision to perform the driving tasks required to operate a CMV. Mr. Ray reported that he has driven straight trucks for 25 years, accumulating 250,000 miles, and tractor-trailer combinations for 25 years, accumulating 250,000 miles. He holds an operator's license from Kentucky. His driving record for the last 3 years shows no crashes and no convictions for moving violations in a CMV.

Steven D. Scharber

Mr. Scharber, 71, has had amblyopia in his right eye since childhood. The visual acuity in his right eye is 20/200, and in his left eye, 20/30. Following an examination in 2016, his optometrist stated, “It is in my opinion that Steven can safely perform the driving tasks required to operate a commercial motor vehicle.” Mr. Scharber reported that he has driven straight trucks for 55 years, accumulating 440,000 miles. He holds a Class A CDL from Minnesota. His driving record for the last 3 years shows no crashes and no convictions for moving violations in a CMV.

Don Smith

Mr. Smith, 72, has glaucoma in his right eye due to a traumatic incident in 2013. The visual acuity in his right eye is counting fingers, and in his left eye, 20/20. Following an examination in 2016, his optometrist stated, “In my professional opinion, this patient has sufficient vision to perform the driving tasks required to operate a commercial vehicle.” Mr. Smith reported that he has driven tractor-trailer combinations for 11 years, accumulating 946,000 miles. He holds a Class A CDL from Texas. His driving record for the last 3 years shows no crashes and no convictions for moving violations in a CMV.

Renaldo J. Stannard

Mr. Stannard, 65, has had amblyopia in his right eye since childhood. The visual acuity in his right eye is counting fingers, and in his left eye, 20/20. Following an examination in 2016, his optometrist stated, “In my medical opinion, Renaldo J. Stannard has sufficient vision to perform the driving tasks required to operate a commercial vehicle.” Mr. Stannard reported that he has driven straight trucks for 24 years, accumulating 840,000 miles. He holds an operator's license from Washington, DC. His driving record for the last 3 years shows no crashes and no convictions for moving violations in a CMV.

John T. Switzer

Mr. Switzer, 44, has had a prosthetic right eye since 1981 due to toxocara canis infection. The visual acuity in his right eye is no light perception, and in his left eye, 20/20. Following an examination in 2016, his ophthalmologist stated, “Since the patient [sic] one-eyed for 35 years and has driven commercial trucks for approximately 16 years without incident, I feel he is totally capable to continue to drive commercial trucks.” Mr. Switzer reported that he has driven straight trucks for 16 years, accumulating 384,000 miles. He holds an operator's license from Mississippi. His driving record for the last 3 years shows no crashes and no convictions for moving violations in a CMV.

Steven A. Thompson

Mr. Thompson, 40, has hypertropia in his left eye due to amblyopia since childhood. The visual acuity in his right eye is 20/20, and in his left eye, 20/200. Following an examination in 2016, his optometrist stated, “In my opinion he has sufficient vision to perform the driving tasks required to operate a commercial vehicle.” Mr. Thompson reported that he has driven straight trucks for 6 years, accumulating 4,800 miles, and tractor-trailer combinations for 3 years, accumulating 1,500 miles. He holds a Class A CDL from Washington. His driving record for the last 3 years shows no crashes and no convictions for moving violations in a CMV.

Edward A. Ziehlke

Mr. Ziehlke, 59, has had a central artery occlusion in his right eye since 2009. The visual acuity in his right eye is count fingers, and in his left eye, 20/20. Following an examination in 2016, his optometrist stated, “I certify that in my medical opinion Mr. Ziehlke has sufficient vision to perform the driving tasks required to operate a commercial vehicle.” Mr. Ziehlke reported that he has driven straight trucks for 13 years, accumulating 650,000 miles, and tractor-trailer combinations for 2 years, accumulating 250,000 miles. He holds an operator's license from Wisconsin. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2017-0014 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2017-0014 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: March 30, 2017.
Larry W. Minor,
Associate Administrator for Policy.

[FR Doc. 2017-07313 Filed 4-11-17; 8:45 am]

BILLING CODE 4910-EX-P